DEPARTMENT OF HEALTH AND HUMAN SERVICES

Administration for Children and Families

[CFDA Number: 93.508]

Announcing the Award of Four Single-Source Expansion Supplement Grants Under the Tribal Maternal, Infant, and Early Childhood Home Visiting (MIECHV) Program for the Tribal Early Learning Initiative

AGENCY: Office of Child Care, ACF, HHS.

ACTION: Notice of the award of four single-source program expansion supplement grants to Tribal Maternal, Infant, and Early Childhood Home Visiting (MIECHV) grantee participants in the Tribal Early Learning Initiative.

SUMMARY: This announces the award of single-source program expansion supplement grants to the following Tribal Maternal, Infant, and Early Childhood Home Visiting (MIECHV) grantees to support their ongoing participation in the Tribal Early Learning Initiative, by the Office of Child Care, in the Administration for Children and Families (ACF): Choctaw Nation of Oklahoma in Durant, OK, Pueblo of San Felipe in San Felipe Pueblo, NM, Confederated Salish and Kootenai Tribes in Pablo, MT, and White Earth Band of Chippewa Indians in White Earth, MN.

The program expansion supplement awards will support expanded efforts by the grantees to identify and analyze systems to improve their effectiveness and efficiency as models for use across early childhood programs; to share their action plans to improve outcomes; to continue the implementation of, and expand the development of, concrete community plans; and to develop peer learning relationships.

DATES: The period of support is September 30, 2014-September 29, 2015.

FOR FURTHER INFORMATION CONTACT: Shannon Rudisill, Director, Office of Child Care, 901 D Street SW., Washington, DC 20447. Telephone: (202) 401-6984; Email: shannon.rudisill@acf.hhs.gov.

SUPPLEMENTARY INFORMATION: One of the stated goals of the Tribal MIECHV program is to support and strengthen cooperation and coordination, and promote linkages among various programs that serve pregnant women, expectant fathers, young children, and families, resulting in the establishment of coordinated and comprehensive early childhood systems in grantee communities. The Tribal MIECHV program expansion supplements for the Tribal Early Learning Initiative will allow for more integrated and efficient activities among the four grantees who currently receive grants from the 3 early learning programs administered by ACF (American Indian/Alaska Native Head Start/Early Head Start, Tribal Child Care and Development Fund, and Tribal MIECHV).

The continued activities of the four grantees are expected to result in models for tribal early learning systems that can be replicated in other tribal communities. In addition, the supplements will expand the reach and impact of technical assistance efforts by supporting and strengthening existing coordination and collaboration activities and expanding the scope of additional such activities in tribal communities.

A supplemental award of $45,000 is made to White Earth Band of Chippewa Indians in White Earth, MN, to support the building of an early childhood system and their focused efforts in implementing a cross-tribe care coordination data system, known as WE-CARE (White Earth Coordinated Assessment, Resources, and Education).

A supplemental award of $35,000 is made to Choctaw Nation of Oklahoma in Durant, OK, to support the building of connections across tribal early childhood programs, including the development of a tribal resource directory for families, and the very large service area they are attempting to reach.

Supplemental awards of $25,000 each are made to the Confederated Salish and Kootenai Tribes in Pablo, MT, and to Pueblo of San Felipe in San Felipe, NM, to support their continuing efforts to build early childhood systems. These efforts have included joint professional development activities, community events to highlight the importance of early childhood and the available programming, and strong relationship-building across Head Start, child care, and home visiting programs.

Statutory Authority: Awards are supported by section 511(h)(2)(A) of Title V of the Social Security Act, as added by Section 2951 of the Patient Protection and Affordable Care Act, Pub. L. 111-148, also known as the Affordable Care Act (ACA).

Melody Wayland,
Senior Grants Policy Specialist, Office of Administration, Office of Financial Services, Division of Grants Policy.

[FR Doc. 2014-24554 Filed 10-15-14; 8:45 am]

BILLING CODE 4184-43-P